DEPARTMENT OF EDUCATION

National Assessment Governing Board; Meeting

AGENCY: Department of Education, National Assessment Governing Board.

ACTION: Notice of Open Meeting and Partially Closed Sessions.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (e.g., interpreting services, assistive listening devices, materials in alternative format) should notify Munira Mwalimu at 202-357-6938 or at Munira.Mwalimu@ed.gov no later than April 30, 2010. We will attempt to meet requests after this date, but cannot guarantee availability of the requested accommodation. The meeting site is accessible to individuals with disabilities.

DATES:

May 13-15, 2010

Times:

May 13: Committee Meetings:

Assessment Development Committee: Closed Session—9 a.m. to 3 p.m.

Executive Committee: Open Session—4:30 p.m. to 5:30 p.m.; Closed Session—5:30 p.m. to 6 p.m.

May 14:

Full Board: Open Session—8:15 a.m. to 9:45 a.m.; Closed Session—12:45 p.m. to 2:45 p.m.; Open Session—3 p.m. to 5 p.m.

Committee Meetings:

Assessment Development Committee: Open Session—9 a.m. to 11:30 a.m.; Closed Session—11:30 a.m. to 12:30 p.m.

Committee on Standards, Design and Methodology: Open Session—10 a.m. to 11:30 a.m.; Closed Session—11:30 a.m. to 12:20 p.m.

Reporting and Dissemination Committee: Open Session—10 a.m. to 12:30 p.m.

May 15:

Nominations Committee: Closed Session—7:45 a.m. to 8:15 a.m.

Full Board: Open Session—8:30 a.m. to 10:30 a.m.

Location: Pfister Hotel, 424 East Wisconsin Avenue, Milwaukee, WI 53201.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On May 13, from 9 a.m. to 3 p.m., the Assessment Development Committee will meet in closed session to review NAEP mathematics items for grades 4 and 8 for the 2011 operational assessment and the 2013 pilot. The Board will be provided with embargoed test items that cannot be discussed in an open meeting. Premature disclosure of data would significantly impede implementation of the NAEP assessments, and is therefore protected by exemption 9(B) of section 552b(c) of Title 5 U.S.C.

On May 13, from 4:30 p.m. to 5:30 p.m., the Executive Committee will meet in open session and thereafter in closed session from 5:30 p.m. to 6 p.m. During the closed session on May 13, the Executive Committee will receive a briefing from the National Center for Education Statistics (NCES) on options for NAEP contracts covering assessment years beyond 2010-2011. The discussion of contract options and costs will address the Congressionally mandated goals and Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On May 14, the full Board will meet in open session from 8:15 a.m. to 9:45 a.m. The Board will review and approve the meeting agenda and meeting minutes from the March 2010 Board meeting. This session will be followed by welcome remarks from Milwaukee speakers. The Executive Director of the Governing Board will then provide a report to the Board, followed by updates to the Board from the Director of the Institute of Education Sciences and the Deputy Commissioner of the National Center for Education Statistics. These sessions will be followed by an update on Common Core Standards by the Executive Director of the Council of Chief State School Officers.

The Board will recess for Committee meetings on May 14 from 10 a.m. to 12:30 p.m. The Reporting and Dissemination Committee will meet in open session from 10 a.m. to 12:30 p.m. The Assessment Development Committee will meet in open session from 10 a.m. to 11:30 a.m. and thereafter in closed session from 11:30 a.m. to 12:30 p.m. During the closed session, the Committee will receive a briefing with embargoed data regarding student response rates and performance results for 12th grade NAEP mathematics items administered in 2009. The Committee will also get an update on scoring the 2010 pilot of the NAEP writing computer-based assessment. The Board will be provided with embargoed data that cannot be discussed in an open meeting prior to their official release. Premature disclosure of data would significantly impede implementation of the NAEP assessments, and is therefore protected by exemption 9(B) of section 552b(c) of Title 5 U.S.C.

The Committee on Standards, Design and Methodology (COSDAM) will meet in open session from 10 a.m. to 11:30 a.m., followed by a closed session from 11:30 a.m. to 12:20 p.m. During the closed session, Board members will review and discuss data on science achievement levels and external validity data collected for evaluating the achievement levels. COSDAM is scheduled to take action for setting the 2009 Science NAEP achievement levels for grades 4, 8, and 12 at the May 2010 meeting. The data provided for evaluation of the cut scores at the May 2010 COSDAM meeting must be discussed in closed session because the cut scores and performance relative to the cut scores are embargoed until the release of the Nation's Report Card. The secure data on achievement levels cannot be discussed in an open meeting prior to their official release. Premature disclosure of data would significantly impede implementation of the NAEP assessment, and is therefore protected by exemption 9(B) of section 552b(c) of Title 5 U.S.C.

Following the Committee meetings, on May 14, from 12:45 p.m. to 1:45 p.m. the full Board will meet in closed session to receive a briefing on the 2009 National Assessment of Educational Progress (NAEP) Trial Urban District Assessments Reading Report Card. The Board will be provided with embargoed results that cannot be discussed in an open meeting prior to their official release. Premature disclosure of data would significantly impede implementation of the NAEP assessment, and is therefore protected by exemption 9(B) of section 552b(c) of Title 5 U.S.C.

Following this session, the full Board will continue to meet in closed session from 1:45 p.m. to 2:45 p.m. to discuss the science achievement levels. The Governing Board is scheduled to take action for setting the 2009 Science NAEP achievement levels for grades 4, 8, and 12 at the May 2010 meeting. The data provided for evaluation of the cut scores at the May 2010 COSDAM meeting must be discussed in closed session because the cut scores and performance relative to the cut scores are embargoed until the release of the Nation's Report Card. The secure achievement levels results cannot be discussed in an open meeting prior to their official release. Premature disclosure of data would significantly impede implementation of the NAEP assessments, and is therefore protected by exemption 9(B) of section 552b(c) of Title 5 U.S.C.

From 3 p.m. to 4 p.m. the Board will meet in open session to discuss the Mathematics Achievement Levels Descriptions for Grade 12 and the Technology and Engineering Literacy Specifications. From 4 p.m. to 5 p.m., the Board will receive a briefing in open session on TUDA research from the Executive Director of the Council of the Great City Schools. The May 14, 2010 Board meeting is scheduled to conclude at 5 p.m.

On May 15, the Nominations Committee will meet in closed session from 7:45 a.m. to 8:15 a.m. to discuss the status of final candidates being proposed for appointment terms beginning October 1, 2010. These discussions pertain solely to internal personnel rules and practices of an agency and will disclose information of a personal nature where disclosure would constitute an unwarranted invasion of personal privacy. As such, the discussions are protected by exemptions 2 and 6 of section 552b(c) of Title 5 U.S.C.

The full Board will meet in open session on May 15 from 8:30 a.m. to 9:30 a.m. for an open discussion on topics of interest. From 9:30 a.m. to 10:30 a.m. the Board will receive Committee reports and take action on Committee recommendations. The May 15, 2010 session of the Board meeting is scheduled to adjourn at 10:30 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: www.gpoaccess.gov/nara/index.html.

Dated: April 20, 2010.
Cornelia S. Orr,
Executive Director, National Assessment Governing Board, U.S. Department of Education.

[FR Doc. 2010-9576 Filed 4-23-10; 8:45 am]

BILLING CODE 4000-01-P